DEPARTMENT OF COMMERCE

International Trade Administration

[A-201-844]

Steel Concrete Reinforcing Bar From Mexico: Final Results of Antidumping Duty Administrative Review; 2022-2023

AGENCY: Enforcement and Compliance, International Trade Administration, Department of Commerce.

SUMMARY: The U.S. Department of Commerce (Commerce) determines that Deacero S.A.P.I. de C.V. and I.N.G.E.T.E.K.N.O.S. Estructurales, S.A. de C.V. (collectively, Deacero Group); and TA 2000 S.A. de C.V. (TA 2000) sold steel concrete reinforcing bar (rebar) from Mexico in the United States at less than normal value during the period of review (POR), November 1, 2022, through October 31, 2023.

DATES: Applicable September 4, 2025.

FOR FURTHER INFORMATION CONTACT: Kyle Clahane or T.J. Worthington, AD/CVD Operations, Office III, Enforcement and Compliance, International Trade Administration, U.S. Department of Commerce, 1401 Constitution Avenue NW, Washington, DC 20230; telephone: (202) 482-5449 or (202) 482-4567, respectively.

SUPPLEMENTARY INFORMATION:

Background

On December 2, 2024, Commerce published the Preliminary Results of this review in the Federal Register and invited interested parties to comment on those results.¹ On December 9, 2024, Commerce tolled the deadline for these final results by 90 days.² From February 24 through February 28, 2025, Commerce conducted verification of Deacero Group's questionnaire responses.³ On June 2, 2025, Commerce extended the deadline for these final results to July 30, 2025.⁴ On June 30, 2025, Commerce further extended the deadline for these final results to August 29, 2025.⁵ On July 24, 2025, Commerce issued a post-preliminary differential pricing analysis.⁶

¹ See Steel Concrete Reinforcing Bar from Mexico: Preliminary Results and Rescission, in Part, of Antidumping Duty Administrative Review; 2022-2023, 89 FR 95176 (December 2, 2024) (Preliminary Results), and accompanying Preliminary Decision Memorandum.

² See Memorandum, “Tolling of Deadlines for Antidumping and Countervailing Duty Proceedings,” dated December 9, 2024.

³ See Memorandum, “Verification of Deacero Group's Sales Responses,” dated April 15, 2025.

⁴ See Memorandum, “Extension of Deadline for the Final Results of Antidumping Duty Administrative Review,” dated June 2, 2025.

⁵ See Memorandum, “Second Extension of Deadline for the Final Results of Antidumping Duty Administrative Review; 2022-2023,” dated June 30, 2025.

⁶ See Memorandum, “Post-Preliminary Analysis for the Administrative Review of Steel Concrete Reinforcing Bar from Mexico,” dated July 24, 2025.

For a complete summary of the events that occurred since Commerce published the Preliminary Results, as well as a full discussion of the issues raised by parties for these final results, see the Issues and Decision Memorandum.⁷ Commerce conducted this administrative review in accordance with section 751(a)(1)(B) of the Tariff Act of 1930, as amended (the Act).

⁷ See Memorandum, “Issues and Decision Memorandum for the Final Results of Antidumping Duty Administrative Review: Steel Concrete Reinforcing Bar from Mexico; 2022-2023,” dated concurrently with, and hereby adopted by, this notice (Issues and Decision Memorandum).

Final Successor-In-Interest Determination

Pursuant to section 751(b)(1) of the Act and 19 CFR 351.216(d), when Commerce receives information concerning, or a request from an interested party for a review of, an order which shows changed circumstances sufficient to warrant a review of such order after publishing notice of the review in the Federal Register, Commerce shall conduct a review of the determination based on those changed circumstances. While successor-in-interest determinations are often made in the context of distinct changed circumstance reviews to consider the applicability of cash deposit rates after there have been changes in the name or the structure of a respondent, such as a merger or spinoff (successor-in-interest, or successorship, determinations), Commerce has also made successor-in-interest determinations in the context of administrative reviews and investigations.⁸

⁸ See, e.g., Certain Frozen Warmwater Shrimp from the People's Republic of China: Final Results of Antidumping Duty Administrative Review and Final Determination of No Shipments; 2018-2019, 85 FR 83891 (December 23, 2020), and accompanying Issues and Decision Memorandum at Comment 3.

In this review, TA 2000 identified that it was formerly named Talleres y Aceros S.A. de C.V. (Talleres y Aceros) and made a legal name change through a merger in which TA 2000 S.A. de C.V. became the revised name of the legal entity and provided information necessary to evaluate the statements in support of the successorship claim within the context of Commerce's established criteria.⁹ In the Preliminary Results, Commerce found that, based on the totality of the circumstances and in the absence of any contradictory information on the record, TA 2000 is the successor-in-interest to Talleres y Aceros, as the change in the company's name was not accompanied by significant changes to its management and operations, production facilities, supplier relationships, and/or customer base.¹⁰ Thus, we preliminarily concluded that TA 2000 operates as essentially the same business entity as Talleres y Aceros, that TA 2000 is the successor-in-interest to Talleres y Aceros, and that TA 2000 should receive the same antidumping duty (AD) cash deposit rate and customs number as its predecessor, with respect to subject merchandise.¹¹

⁹ See TA 2000's Letter, “Supplemental Response,” dated September 23, 2024.

¹⁰ See Preliminary Results, 89 FR at 95177, and accompanying Preliminary Decision Memorandum at 5-6.

¹¹ Id.

No party commented on this determination, and Commerce received no subsequent information or argument to compel reconsideration thereof. Therefore, we continue to find TA 2000 to be the successor-in-interest to Talleres y Aceros and that TA 2000 should receive the same AD cash deposit rate and customs number as its predecessor.

Scope of the Order ¹²

¹² See Steel Concrete Reinforcing Bar from Mexico: Antidumping Duty Order, 79 FR 65925 (November 6, 2014) (Order).

The product covered by this Order is rebar from Mexico. For a complete description of the scope, see the Issues and Decision Memorandum.

Analysis of Comments Received

All issues raised in the case and rebuttal briefs are addressed in the Issues and Decision Memorandum. A list of the issues that parties raised and to which we responded in the Issues and Decision Memorandum is attached as the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our review of the record and comments received from interested parties regarding the Preliminary Results, we made certain changes to the margin calculation for Deacero Group. In addition, Commerce has relied on partial adverse facts available under sections 776(a) and (b) of the Act for Deacero Group. For a discussion of these changes, see the Issues and Decision Memorandum. We made no changes to the margin calculation for TA 2000.

Final Results of Review

Commerce determines that the following weighted-average dumping margins exist for the period November 1, 2022, through October 31, 2023:

Producer or exporter | Weighted- average dumping margin (percent)
Deacero S.A.P.I. de C.V./I.N.G.E.T.E.K.N.O.S. Estructurales S.A. | 32.05
TA 2000 S.A. de C.V.¹³ | 22.27

Disclosure

¹³ As discussed above in the “Final Successor-in-Interest Determination” section, we determine that TA 2000 is the successor-in-interest to Talleres y Aceros S.A. de C.V. Accordingly, we intend to issue assessment instructions covering applicable entries produced and exported by Talleres y Aceros S.A. de C.V. during the POR at the rate established in these final results for TA 2000.

With respect to Deacero Group, Commerce intends to disclose to interested parties the calculations performed for these final results in this review within five days of the date of publication of this notice in the Federal Register, in accordance with 19 CFR 351.224(b).

With respect to TA 2000, there are no new calculations to disclose in accordance with 19 CFR 351.224(b) for these final results.

Assessment Rate

Pursuant to section 751(a)(2)(A) of the Act, and 19 CFR 351.212(b)(1), Commerce shall determine, and U.S. Customs and Border Protection (CBP) shall assess, antidumping duties on all appropriate entries covered by this review. Pursuant to 19 CFR 351.212(b)(1), where the respondent reported the entered value of its U.S. sales, we calculated importer-specific AD assessment rates by aggregating the total amount of dumping calculated for the examined sales of each importer and dividing each of these amounts by the total entered value associated with those sales. Where the respondent did not report entered value, we calculated a per-unit assessment rate for each importer by dividing the total amount of dumping calculated for the examined sales made to that importer by the total quantity associated with those sales. To determine whether an importer-specific, per-unit assessment rate is de minimis, in accordance with 19 CFR 351.106(c)(2), we also calculated an importer-specific ad valorem ratio based on estimated entered values. Where either the respondent's weighted-average dumping margin is zero or de minimis within the meaning of 19 CFR 351.106(c)(1), or an importer-specific assessment rate is zero or de minimis, we will instruct CBP to liquidate the appropriate entries without regard to antidumping duties.

Commerce's “automatic assessment” will apply to entries of subject merchandise during the POR produced by the mandatory respondents for which the companies did not know that the merchandise they sold to an intermediary (e.g., a reseller, trading company, or exporter) was destined for the United States. In such instances, we will instruct CBP to liquidate unreviewed entries at the all-others rate established in the original less-than-fair value (LTFV) investigation, i.e., 20.58 percent,¹⁴ if there is no rate for the intermediate company(ies) involved in the transaction.

¹⁴ See Order 79 FR at 65926.

Commerce intends to issue assessment instructions to CBP no earlier than 41 days after the date of publication of the final results of this review in the Federal Register in accordance with 19 CFR 356.8(a).

Cash Deposit Requirements

The following cash deposit requirements will be effective for all shipments of the subject merchandise entered, or withdrawn from warehouse, for consumption on or after the publication date of the final results of this administrative review, as provided by section 751(a)(2)(C) of the Act: (1) the cash deposit rates for the companies identified above in the “Final Results of Review” section will be equal to the company-specific weighted-average dumping margin established in the final results of this administrative review; (2) for merchandise exported by a company not covered in this administrative review but covered in a completed prior segment of the proceeding, the cash deposit rate will continue to be the company-specific rate published for the most recently completed segment of this proceeding; (3) if the exporter is not a firm covered in this review or completed prior segment of this proceeding but the producer is, the cash deposit rate will be the company-specific rate established for the most recently-completed segment of this proceeding for the producer of the subject merchandise; and (4) the cash deposit rate for all other producers or exporters will continue to be 20.58 percent, the rate established in the LTFV investigation.¹⁵ These cash deposit requirements, when imposed, shall remain in effect until further notice.

¹⁵ See Order 79 FR at 65926.

Notification to Importers

This notice serves as a final reminder to importers of their responsibility under 19 CFR 351.402(f)(2) to file a certificate regarding the reimbursement of antidumping duties prior to liquidation of the relevant entries during this POR. Failure to comply with this requirement could result in Commerce's presumption that reimbursement of antidumping duties has occurred and the subsequent assessment of double antidumping duties.

Administrative Protective Order (APO)

This notice also serves as a final reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5) and 19 CFR 351.213(h)(1).

Dated: August 29, 2025.
Abdelali Elouaradia,
Deputy Assistant Secretary for Enforcement and Compliance.

Appendix

List of Topics Discussed in the Issues and Decision Memorandum

I. Summary

II. Background

III. Scope of the Order

IV. Changes Since the Preliminary Results

V. Differential Pricing Analysis

VI. Discussion of the Issues

Comment 1: Whether to Apply Total Adverse Facts Available (AFA) to Deacero Group

Comment 2: Whether to Apply Partial AFA to Deacero Group's Indirect Selling Expenses in the Home Market and the U.S. Market

Comment 3: Whether Commerce Should Apply AFA with Respect to Deacero Group's Fright Expenses in the Home Market

Comment 4: Whether Commerce Should Apply AFA with Respect to Deacero Group's Fright Expenses in the U.S. Market

Comment 5: Whether Commerce Should Increase Deacero Group's Cost of Production to Include Certain Costs

Comment 6: Whether to Revise Commerce's Treatment of Reported Insurance Revenue and Warranty Expenses

Comment 7: Whether to Revise Commerce's Treatment of Certain Credit Expenses

Comment 8: Whether Commerce Should Revise the Cost Adjustment Calculated for Affiliate Scrap Purchases and the Calculation of General and Administrative (G&A) and Interest Expenses

Comment 9: Whether Commerce Should Revise the Application of Short-Term Interest Rates

Comment 10: Whether the Statute Requires Zeroing

Comment 11: Whether Commerce Should Apply the Cohen's d Test and Whether the Differential Pricing Methodology Complies with the Statute

VII. Recommendation

[FR Doc. 2025-16965 Filed 9-3-25; 8:45 am]

BILLING CODE 3510-DS-P